DEPARTMENT OF EDUCATION

Reopening the Fiscal Year (FY) 2019 Competition for Certain Eligible Applicants; Education Innovation and Research Program—Expansion Grants

AGENCY: Office of Elementary and Secondary Education, Department of Education.

ACTION: Notice.

SUMMARY: In order to afford eligible applicants the opportunity to apply, the Assistant Secretary for Elementary and Secondary Education reopens, for certain prospective eligible applicants, the FY 2019 Education Innovation and Research Expansion competition, Catalog of Federal Domestic Assistance (CFDA) number 84.411A. The Assistant Secretary takes this action to allow more time for the preparation and submission of applications by prospective eligible applicants affected by the severe storms and flooding in parts of Iowa, Nebraska, and Alabama, as well as areas impacted by the Ironworks Fire in New Mexico, which have been designated for Individual Assistance or Public Assistance under Presidential major disaster or fire management assistance declarations under DR-4421, DR-4420, DR-4419, and FM-5281, respectively.

DATES: Deadline for Transmittal of Applications: April 23, 2019.

Deadline for Intergovernmental Review: June 24, 2019.

FOR FURTHER INFORMATION CONTACT: Irene Montanti, U.S. Department of Education, 400 Maryland Avenue SW, Room 3E323, Washington, DC 20202. Telephone: (202) 453-7122. Email: eir@ed.gov.

If you use a telecommunications device for the deaf (TDD) or a text telephone (TTY), call the Federal Relay Service (FRS), toll free, at 1-800-877-8339.

SUPPLEMENTARY INFORMATION: On February 1, 2019, we published in the Federal Register (84 FR 1085) a notice inviting applications for new awards for FY 2019 for the Education Innovation and Research Expansion competition (NIA). We are reopening this competition in order to allow certain eligible applicants more time to prepare and submit their applications.

Eligibility: The reopening of this competition applies to eligible applicants under the Education Innovation and Research Expansion competition that are located in a federally declared disaster area, as determined by the Federal Emergency Management Agency (FEMA) under declarations DR-4421, DR-4420, DR-4419, or FM-5281. These are areas adversely affected by the severe storms and flooding in parts of Iowa, Nebraska, and Alabama, as well as areas impacted by the Ironworks Fire in New Mexico. The federally declared disaster areas under each of these declarations are the jurisdictions identified by FEMA in which assistance to individuals or public assistance has been authorized.

An eligible applicant for the Education Innovation and Research Expansion competition is defined in the NIA.

An eligible applicant submitting an application as part of the reopened competition must provide a certification in its application that it is located in a jurisdiction that is part of one of the applicable federally-declared disaster areas and must provide appropriate supporting documentation, if requested.

We are not reopening the application period for all applicants. Thus, applications from applicants not affected by the natural disasters referenced in this notice may not be submitted as part of this reopened period for submission of applications.

See the Emergency Declarations available at: www.fema.gov/disaster/4421; www.fema.gov/disaster/4420; www.fema.gov/disaster/4419; and www.fema.gov/disaster/5281 to determine if you are eligible to apply as part of this reopened competition.

Note: All information in the NIA remains the same, except for the deadline date for certain eligible entities and the deadline for intergovernmental review.

Program Authority: Section 4611 of the Elementary and Secondary Education Act, as amended, 20 U.S.C. 7261.

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Dated: April 16, 2019.
Frank T. Brogan,
Assistant Secretary for Elementary and Secondary Education.

[FR Doc. 2019-07972 Filed 4-18-19; 8:45 am]

BILLING CODE 4000-01-P